DEPARTMENT OF HEALTH AND HUMAN SERVICES

Health Resources and Services Administration

Secretary's Advisory Committee on Heritable Disorders in Newborns and Children; Notice of Meeting

In accordance with section 10(a)(2) of the Federal Advisory Committee Act (Pub. L. 92-463), notice is hereby given of the following meeting:

Name: Secretary's Advisory Committee on Heritable Disorders in Newborns and Children.

Dates and Times: May 13, 2010, 8:30 a.m. to 5 p.m. May 14, 2010, 8:30 a.m. to 3:30 p.m.

Place: Renaissance Washington, DC Dupont Circle Hotel, 1143 New Hampshire Avenue, NW., Washington, DC 20037.

Status: The meeting will be open to the public with attendance limited to space availability. Participants are asked to register for the meeting by going to the registration Web site at http://events.SignUp4.com/ACHDNC0510. The registration deadline is Tuesday, May 11, 2010. Individuals who need special assistance, such as sign language interpretation or other reasonable accommodations should indicate their needs on the registration Web site. The deadline for special accommodation requests is Friday, May 7, 2010. If there are technical problems gaining access to the Web site, please contact Maureen Ball, Meetings Coordinator, at conferences@altarum.org.

Purpose: The Secretary's Advisory Committee on Heritable Disorders in Newborns and Children (Advisory Committee) was established to advise and guide the Secretary regarding the most appropriate application of universal newborn screening tests, technologies, policies, guidelines and programs for effectively reducing morbidity and mortality in newborns and children having or at risk for heritable disorders. The Advisory Committee also provides advice and recommendations concerning the grants and projects authorized under the Public Health Service Act, 42 U.S.C. 300b-10, (Heritable Disorders Program) as amended in the Newborn Screening Saves Lives Act of 2008.

Agenda: The meeting will include: (1) A presentation of the External Review Workgroup's final report on the nomination of Hemoglobin H disease to the Advisory Committee's recommended uniform screening panel; (2) presentations related to the system, information, and technology needs of newborn screening programs; (3) an update on the report being developed by the Sickle Cell Disease Carrier Screening workgroup; and (4) presentations on the continued work and reports of the Advisory Committee's subcommittees on laboratory standards and procedures, follow-up and treatment, and education and training.

Proposed Agenda items are subject to change as priorities dictate. You can locate the Agenda, Committee Roster and Charter, presentations, and meeting materials at the home page of the Advisory Committee's Web site at http://www.hrsa.gov/heritabledisorderscommittee/.

Web cast: The meeting will be Web cast. Information on how to access the Web cast will be available one week prior to the meeting, May 6, 2010, by clicking on the meeting date link at http://events.SignUp4.com/ACHDNC0510.

Public Comments: Members of the public can present oral comments during the public comment periods of the meeting, which are scheduled for both days of the meeting. Those individuals who want to make a comment are requested to register online by Tuesday, May 11, 2010, at http://events.SignUp4.com/ACHDNC0510. Requests will contain the name, address, telephone number, and any professional or business affiliation of the person desiring to make an oral presentation. Groups having similar interests are requested to combine their comments and present them through a single representative. The list of public comment participants will be posted on the Web site. Written comments should be e-mailed via e-mail no later than Tuesday, May 11, 2010, for consideration. Comments should be submitted to Maureen Ball, Meetings Coordinator, Conference and Meetings Management, Altarum Institute, 1200 18th Street, NW., Suite 700, Washington, DC 20036; telephone: 202-828-5100; fax: 202-785-3083; or e-mail: conferences@altarum.org.

Contact Person: Anyone interested in obtaining other relevant information should write or contact Alaina M. Harris, Maternal and Child Health Bureau, Health Resources and Services Administration, Room 18A-19, Parklawn Building, 5600 Fishers Lane, Rockville, Maryland 20857, Telephone (301) 443-0721, aharris@hrsa.gov. More information on the Advisory Committee is available at http://mchb.hrsa.gov/heritabledisorderscommittee.

Dated: March 31, 2010.
Sahira Rafiullah,
Director, Division of Policy and Information Coordination.

[FR Doc. 2010-7929 Filed 4-7-10; 8:45 am]

BILLING CODE 4165-15-P